DEPARTMENT OF THE INTERIOR

Fish and Wildlife Service

Notice of Availability of an Environmental Assessment/Habitat Conservation Plan and Receipt of Application for an Incidental Take Permit for the Development and Operation of a High Adventure Boy Scout Camp on the 4,848-Acre Griffith League Ranch, Bastrop County, TX

AGENCY: Fish and Wildlife Service, Interior.

ACTION: Notice of availability.

SUMMARY: The Boy Scouts of America Capitol Area Council #564 (Applicant) has applied to the U.S. Fish and Wildlife Service (Service) for an incidental take permit pursuant to section 10(a) of the Endangered Species Act (Act). The Applicant has been assigned permit number TE-065406-0. The requested permit, which is for a period of 50 years, would authorize the incidental take of the endangered Houston toad (Bufo houstonensis). The proposed take would occur as a result of the development and operation of a high adventure Boy Scout Camp on the 4,848-acre Griffith League Ranch, Bastrop County, Texas. The Service has prepared the Environmental Assessment/Habitat Conservation Plan (EA/HCP) for the incidental take application.

DATES: Written comments on the application should be received within 60 days of the date of this publication.

ADDRESSES: Persons wishing to review the application may obtain a copy by writing to the Regional Director, U.S. Fish and Wildlife Service, P.O. Box 1306, Albuquerque, New Mexico 87103. Persons wishing to review the EA/HCP may obtain a copy by written or telephone request to Sybil Vosler, U.S. Fish and Wildlife Service, Ecological Services Office, 10711 Burnet Road, Suite 200, Austin, Texas 78758 (512/490-0057). Documents will be available for public inspection by written request or by appointment only during normal business hours (8 a.m. to 4:30 p.m.) at the U.S. Fish and Wildlife Service Office, Austin, Texas. Data or comments concerning the application and EA/HCP should be submitted in writing to the Field Supervisor, U.S. Fish and Wildlife Service Office, Austin, Texas at the above address. Please refer to permit number TE-065406-0 when submitting comments.

FOR FURTHER INFORMATION CONTACT: Sybil Vosler at the above U.S. Fish and Wildlife Service Office, Austin, Texas.

SUPPLEMENTARY INFORMATION: Section 9 of the Act prohibits the “taking” of endangered species such as the Houston toad. However, the Service, under limited circumstances, may issue permits to take endangered wildlife species incidental to, and not the purpose of, otherwise lawful activities. Regulations governing permits for endangered species are at 50 CFR 17.22.

Applicant: The Boy Scouts of America Capitol Area Council #564 plans to develop and operate a high adventure Boy Scout Camp on the 4,848-acre Griffith League Ranch, Bastrop County, Texas. This action would eliminate up to approximately 498 acres of habitat and moderately impact up to 416 acres of Houston toad habitat resulting in take of the Houston toad. The Applicant proposes to compensate for this incidental take of the Houston toad by setting aside and managing under a long-term conservation easement up to 748 acres of the Griffith League Ranch for the benefit of the toad depending on the actual acres impacted. The Boy Scouts expect that balance of the Houston toad habitat on the Griffith League Ranch will have little or no impact from activities such as day hiking, backpacking, orienteering and nature studies. The Boy Scouts of America Capitol Area Council #564 believe they could use their resources to manage the Griffith League Ranch in such a manner as to avoid impacts and protect the toad as much as possible while carrying out their primary mission. They will also incorporate information regarding the conservation of the Houston toad into the educational program at Griffith League Ranch and facilitate scientific studies aimed at increasing the available information about the toad by making the Griffith League Ranch available for such studies.

Alternatives to this action were rejected because not developing the subject property with federally listed species present was not economically feasible, would not provide a valuable social service, and would not contribute to positive management and increased knowledge of the Houston toad. Alteration of the project design increased the level of impacts and was rejected.

A determination of jeopardy or non-jeopardy to the species and a decision pursuant to the National Environmental Policy Act will not be made until at least 60 days from the date of publication of this notice. This notice is provided pursuant to section 10(c) of the Act and NEPA regulations (40 CFR 1506.6).

Geoffrey L. Haskett,
Acting Regional Director, Region 2, Albuquerque, New Mexico.

[FR Doc. 02-31565 Filed 12-13-02; 8:45 am]

BILLING CODE 4510-55-P